NUCLEAR REGULATORY COMMISSION

[NRC-2017-0161]

Assessment of the Assumption of Normality (Employing Individual Observed Values)

AGENCY: Nuclear Regulatory Commission.

ACTION: Regulatory guide; withdrawal.

SUMMARY: The U.S. Nuclear Regulatory Commission (NRC) is withdrawing Regulatory Guide (RG) 5.22, “Assessment of the Assumption of Normality (Employing Individual Observed Values).” This RG is being withdrawn because the guidance for licensees to develop written procedures describing statistical analyses of nuclear material accounting data, specifically when assessing the assumption of normality in a data set, is no longer needed.

DATES: The effective date of the withdrawal of RG 5.22 is July 21, 2017.

ADDRESSES: Please refer to Docket ID NRC-2017-0161 when contacting the NRC about the availability of information regarding this document. You may obtain publicly-available information related to this document, using the following methods:

• Federal Rulemaking Web site: Go to http://www.regulations.gov and search for Docket ID NRC-2017-0161. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The basis for the withdrawal of this guide is found in ADAMS under Accession No. ML16225A659.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Glenn Tuttle, Office of Nuclear Materials Safety and Safeguards, telephone: 301-415-7230; email: Glenn.Tuttle@nrc.gov; and Harriet Karagiannis, Office of Nuclear Regulatory Research, telephone: 301-415-2493; email: Harriet.Karagiannis@nrc.gov. Both are staff of the U.S. Nuclear Regulatory Commission, Washington, DC 20555-0001.

SUPPLEMENTARY INFORMATION: Regulatory Guide 5.22 was published in April 1974 to provide guidance on meeting the requirements related to material control and accounting (MC&A) statistical control procedures in § 70.22(b) of title 10 of the Code of Federal Regulations (10 CFR), “Contents of applications.” This requirement, regarding submittal of the licensees' description of its MC&A procedures, did not specifically require the methodology that the guidance in RG 5.22 addressed and no longer exists in 10 CFR 70.22(b). The MC&A requirements have all been moved to 10 CFR part 74 and no specific requirements exist for assessing the assumption of normality.

Regulatory Guide 5.22 endorsed the American National Standards Institute (ANSI) Standard N15.15-1973, “Assessment of the Assumption of Normality (Employing Individual Observed Values),” with qualifications. The ANSI Standard N15.15-1973 provided a common method used in assessing the assumption of normality in a data set. However, the NRC is not aware that any licensee ever used this particular RG or the ANSI standard it endorsed since the method is not required by NRC regulations. Instructions on performing such an analysis, if a licensee chose to test their MC&A data for the assumption of normality, can be found in NUREG/CR-4604 (PNL-5849), “Statistical Methods for Nuclear Material Management” (ADAMS Accession No. ML103430339). NUREG/CR-4604 was developed to be a comprehensive guidance document on statistical methods that licensees may use in evaluating MC&A data.

Withdrawal of a RG means that the guide no longer provides useful information or has been superseded by other guidance, technological innovations, congressional actions, or other events. The NRC is withdrawing RG 5.22 because it is no longer needed. The withdrawal of RG 5.22 does not alter any prior or existing NRC licensing approvals or the acceptability of licensee commitments to RG 5.22. Although RG 5.22 is withdrawn, current licensees may continue to use it, and withdrawal does not affect any existing licenses or agreements. However, by withdrawing RG 5.22, the NRC will no longer approve its use in future requests or applications for NRC licensing actions.

Dated at Rockville, Maryland, this 17th day of July, 2017.
For the Nuclear Regulatory Commission.
Thomas H. Boyce,
Chief, Regulatory Guidance and Generic Issues Branch, Division of Engineering, Office of Nuclear Regulatory Research.

[FR Doc. 2017-15336 Filed 7-20-17; 8:45 am]

BILLING CODE 7590-01-P